DEPARTMENT OF HEALTH AND HUMAN SERVICES

National Institutes of Health

Alternative Approaches for Acute Inhalation Toxicity To Address Global Regulatory and Non-Regulatory Data Requirements; Notice of Webinars; Registration Information

SUMMARY: The National Toxicology Program (NTP) Interagency Center for the Evaluation of Alternative Toxicological Methods (NICEATM) announces the webinar series, “Alternative Approaches for Acute Inhalation Toxicity to Address Global Regulatory and Non-Regulatory Data Requirements.” Webinar speakers will discuss the state of the science of alternative approaches for identifying acute systemic toxicants due to inhalation exposure, and identify knowledge and data gaps that need to be addressed prior to implementation of those approaches.

DATES:

First Webinar: March 29, 2016, from 11 a.m. to 12 p.m. Eastern Daylight Time (EDT).

Subsequent Webinars: Five subsequent webinars will be presented monthly through August 2016; dates of the webinars will posted on the Web page.

Registration for Webinars: Registration for each webinar will be open during the webinar.

ADDRESSES: Web page: The preliminary agenda, registration, and other meeting materials are at http://ntp.niehs.nih.gov/go/inhalation-2016.

FOR FURTHER INFORMATION CONTACT: Dr. Warren Casey, Director, NICEATM; email: warren.casey@nih.gov; telephone: (919) 316-4729.

SUPPLEMENTARY INFORMATION: Background: Acute systemic toxicity tests are designed to identify chemicals that could cause illness or death immediately or shortly after a single exposure. This webinar series will explore and discuss alternative approaches that could replace, reduce, or refine the use of animals for identifying chemicals that may cause acute systemic toxicity when inhaled.

During the webinar series, participants will (1) define when and how acute systemic toxicity data are used for assessing inhalation toxicity hazard potential for both regulatory and non-regulatory testing; (2) review existing alternative approaches for identifying chemicals likely to cause acute systemic toxicity via inhalation, which could include mechanism-based models (i.e., in vitro and in silico approaches); and (3) identify mechanisms of acute toxicity that may constitute key events in adverse outcome pathways for acute inhalation toxicity.

The webinar series steering committee is comprised of members from government and nongovernment stakeholder organizations including NICEATM, People for the Ethical Treatment of Animals, International Science Consortium Ltd., The Dow Chemical Company, European Union Reference Laboratory for Alternatives to Animal Testing, Simulations Plus, Inc., Netherlands Organisation for Applied Scientific Research, and U.S. Environmental Protection Agency.

List of Webinar Topics and Other Information: A link to registration and additional information about the webinar series are available at http://ntp.niehs.nih.gov/go/inhalation-2016. Dates and topics for each webinar will be posted on this page as they are finalized.

Meeting and Registration: The webinars are open to the public, free of charge, with attendance limited only by available webcast capacity. Individuals who plan to attend the first webinar should register at http://ntp.niehs.nih.gov/go/inhalation-2016 by March 29, 2016. Subsequent webinars will be convened monthly; registration for any webinar will automatically register the viewer for all subsequent webinars. Interested individuals are encouraged to visit http://ntp.niehs.nih.gov/go/inhalation-2016 for future webinar dates and topics and to stay abreast of the most current information about the webinar series.

Individuals with disabilities who need accommodation to participate in this event should contact Dr. Elizabeth Maull at telephone: (919) 316-4668 or email: maull@niehs.nih.gov. TTY users should contact the Federal TTY Relay Service at (800) 877-8339. Requests should be made at least five business days in advance of the event.

Background Information on NICEATM: NICEATM conducts data analyses, workshops, independent validation studies, and other activities to assess new, revised, and alternative test methods and strategies. NICEATM also provides support for the Interagency Coordinating Committee on the Validation of Alternative Methods (ICCVAM). The ICCVAM Authorization Act of 2000 (42 U.S.C. 285l-3) provides authority for ICCVAM and NICEATM in the development of alternative test methods. Information about NICEATM and ICCVAM is found at http://ntp.niehs.nih.gov/go/niceatm and http://ntp.niehs.nih.gov/go/iccvam, respectively.

Dated: March 15, 2016.
John R. Bucher,
Associate Director, National Toxicology Program.

[FR Doc. 2016-06201 Filed 3-17-16; 8:45 am]

BILLING CODE 4140-01-P